DEPARTMENT OF ENERGY

10 CFR Parts 429 and 430

[Docket No. EERE-2009-BT-TP-0016]

RIN 1904-AD58

Energy Conservation Program: Clarification of Test Procedures for Fluorescent Lamp Ballasts

AGENCY: Office of Energy Efficiency and Renewable Energy, Department of Energy.

ACTION: Notice of proposed rulemaking.

SUMMARY: The U.S. Department of Energy (DOE) proposes to clarify its test procedures for fluorescent lamp ballasts established under the Energy Policy and Conservation Act. DOE is proposing to replace all instances of ballast efficacy factor (BEF) with ballast luminous efficiency (BLE) in our regulations and to add rounding instructions to the same section for BLE and power factor. DOE also proposes to clarify the represented value instructions for power factor. Finally, DOE is proposing to revise Appendix Q to clarify the lamp-ballast pairings for testing.

DATES: DOE will accept comments, data, and information regarding this notice of proposed rulemaking (NOPR) no later than January 4, 2016. See section V, “Public Participation,” for details.

ADDRESSES: Any comments submitted must identify the NOPR for Clarification of Test Procedures for Fluorescent Lamp Ballasts, and provide docket number EE-2009-BT-TP-0016 and/or regulatory information number (RIN) number 1904-AD58. Comments may be submitted using any of the following methods:

1. Federal eRulemaking Portal: www.regulations.gov. Follow the instructions for submitting comments.

2. Email: [FLB-2009-TP-0016@ee.doe.gov] Include the docket number and/or RIN in the subject line of the message.

3. Mail: Ms. Brenda Edwards, U.S. Department of Energy, Building Technologies Program, Mailstop EE-5B, 1000 Independence Avenue SW., Washington, DC 20585-0121. If possible, please submit all items on a CD. It is not necessary to include printed copies.

4. Hand Delivery/Courier: Ms. Brenda Edwards, U.S. Department of Energy, Building Technologies Program, 950 L'Enfant Plaza SW., Suite 600, Washington, DC 20024. Telephone: (202) 586-2945. If possible, please submit all items on a CD. It is not necessary to include printed copies.

For detailed instructions on submitting comments and additional information on the rulemaking process, see section V of this document (Public Participation).

Docket: The docket, which includes Federal Register notices, comments, and other supporting documents/materials, is available for review at regulations.gov. All documents in the docket are listed in the regulations.gov index. However, some documents listed in the index, such as those containing information that is exempt from public disclosure, may not be publicly available.

A link to the docket Web page can be found at: http://www1.eere.energy.gov/buildings/appliance_standards/product.aspx/productid/62. This Web page will contain a link to the docket for this notice on the regulations.gov site. The regulations.gov Web page will contain simple instructions on how to access all documents, including public comments, in the docket. See section V for information on how to submit comments through regulations.gov.

For further information on how to submit a comment or review other public comments and the docket, contact Ms. Brenda Edwards at (202) 586-2945 or by email: Brenda.Edwards@ee.doe.gov.

FOR FURTHER INFORMATION CONTACT: Ms. Lucy deButts, U.S. Department of Energy, Office of Energy Efficiency and Renewable Energy, Building Technologies Program, EE-5B, 1000 Independence Avenue SW., Washington, DC 20585-0121. Telephone: (202) 287-1604. Email: fluorescent_lamp_ballasts@ee.doe.gov.

Ms. Sarah Butler, U.S. Department of Energy, Office of the General Counsel, GC-71, 1000 Independence Avenue SW., Washington, DC 20585-0121. Telephone: (202) 586-1777. Email: Sarah.Butler@hq.doe.gov.

SUPPLEMENTARY INFORMATION: DOE is incorporating by reference the following industry standard into 10 CFR part 430. Copies of this industry standard can be reviewed in person at U.S. Department of Energy, Building Technologies Program, 950 L'Enfant Plaza SW., Suite 600, Washington, DC 20024. For further information on accessing standards incorporated by reference, contact Ms. Brenda Edwards at (202) 586-2945 or by email: Brenda.Edwards@ee.doe.gov.

IEC ¹ 60081 (Amendment 4, Edition 5.0), “Double-capped fluorescent lamps—Performance specifications.”

¹ International Electrotechnical Commission.

Copies of IEC 60081 can be obtained from American National Standards Institute, 25 West 43rd Street, 4th Floor, New York, NY 10036 or http://webstore.iec.ch/.

Table of Contents

I. Authority and Background

II. Synopsis of the Notice of Proposed Rulemaking

III. Discussion

A. Replacing Ballast Efficacy Factor with Ballast Luminous Efficiency

B. Rounding Requirements for Ballast Luminous Efficiency

C. Rounding Requirements and Represented Value for Power Factor

D. Lamp Pairing for Testing

IV. Procedural Issues and Regulatory Review

A. Review Under Executive Order 12866

B. Review Under the Regulatory Flexibility Act

C. Review Under the Paperwork Reduction Act of 1995

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under Treasury and General Government Appropriations Act, 2001

K. Review Under Executive Order 13211

L. Review Under Section 32 of the Federal Energy Administration Act of 1974

M. Description of Standards Incorporated by Reference

V. Public Participation

A. Submission of Comments

B. Issues on Which DOE Seeks Comment

VI. Approval of the Office of the Secretary

I. Authority and Background

Title III, Part B ² of the Energy Policy and Conservation Act of 1975 (“EPCA” or, “the Act”), Public Law 94-163 (42 U.S.C. 6291-6309, as codified) sets forth a variety of provisions designed to improve energy efficiency and established the “Energy Conservation Program for Consumer Products Other Than Automobiles.” ³ These include fluorescent lamp ballasts, the subject of this proposed rule. (42 U.S.C. 6292(a)(13))

² For editorial reasons, upon codification in the U.S. Code, Part B was redesignated as Part A.

³ All references to EPCA refer to the statute as amended through the Energy Efficiency Improvement Act of 2015 (EEIA 2015), Public Law 114-11 (April 30, 2015).

Under EPCA, the energy conservation program consists essentially of four parts: (1) Testing, (2) labeling, (3) Federal energy conservation standards, and (4) certification and enforcement procedures. The testing requirements consist of test procedures that manufacturers of covered products must use as the basis for (1) certifying to the Department of Energy (DOE) that their products comply with the applicable energy conservation standards adopted under EPCA, and (2) making representations about the efficiency of those products. Similarly, DOE must use these test procedures to determine whether the products comply with any relevant standards promulgated under EPCA.

DOE published test procedure final rules on April 24, 1991, October 22, 2009, and May 4, 2011 (hereafter the “May 2011 test procedure final rule”), establishing active mode test procedures, standby and off mode test procedures, and revised active mode test procedures respectively. 56 FR 18677, 74 FR 54445, and 76 FR 25211. The May 2011 test procedure final rule established Appendix Q1 ⁴ to subpart B of 10 CFR part 430. DOE also published final rules establishing and amending energy conservation standards for fluorescent lamp ballasts on September 19, 2000, and November 14, 2011 (hereafter the “November 2011 standards final rule”), which completed the two energy conservation standard rulemakings required under 42 U.S.C. 6295(g)(7). 65 FR 56740; 76 FR 70547. The November 2011 standards final rule established the regulations located at 10 CFR 430.32(m)(8)-(10). DOE also published final rules on February 4, 2015 (hereafter the “February 2015 correction final rule”) and on June 5, 2015 (hereafter the “June 2015 clarification final rule”) to correct and clarify certain requirements and specifications in the CFR relating to energy conservation standards and test procedures. 80 FR 5896; 80 FR 31971. This rulemaking proposes additional requirements in support of the current test procedure.

⁴ Appendix Q1 was redesignated as Appendix Q in the June 2015 clarification final rule. 80 FR 31971 (June 5, 2015).

II. Synopsis of the Notice of Proposed Rulemaking

In this notice of proposed rulemaking (NOPR), DOE proposes several clarifications to the test procedure requirements for fluorescent lamp ballasts. DOE is proposing to replace all instances of ballast efficacy factor (BEF) with ballast luminous efficiency (BLE) in 10 CFR 429.26 and to add rounding instructions in 10 CFR 429.26 for BLE and power factor. DOE also proposes to clarify the represented value instructions for power factor. Finally, DOE is proposing revisions to Appendix Q to clarify the lamp-ballast pairings for testing.

Manufacturers would be required to comply with the requirements included in this rulemaking within 180 days after the publication of the final rule.

III. Discussion

A. Replacing Ballast Efficacy Factor With Ballast Luminous Efficiency

Manufacturers were previously required to use the test procedure for fluorescent lamp ballasts at 10 CFR part 430, subpart B, appendix Q to determine compliance with DOE's standards, which were a measurement of BEF. The May 2011 test procedure final rule, which changed the test procedure to a measurement of BLE, established appendix Q1 to subpart B of 10 CFR part 430 to determine compliance with DOE's fluorescent lamp ballast standards. 76 FR 25211. On November 14, 2011, DOE issued amended standards for fluorescent lamp ballasts based on BLE and compliance with those standards has been required since November 14, 2014. 76 FR 70548. 10 CFR 430.32 (m). Because the fluorescent lamp ballast standards based on BEF are no longer applicable, the June 2015 clarification final rule removed the test procedure for BEF at Appendix Q and redesignated the Appendix Q1 test procedure for BLE as Appendix Q. 80 FR 31971. To support the transition from BEF to BLE, DOE is proposing to replace all instances of BEF with BLE in 10 CFR 429.26.

B. Rounding Requirements for Ballast Luminous Efficiency

Currently, rounding requirements are not provided for the represented value of BLE. When developing standards in the November 2011 standards final rule, DOE rounded BLE to the thousandths place when analyzing the costs and benefits of the adopted standard. For consistency with the 2011 standards final rule, DOE proposed to specify rounding the represented value of BLE to the nearest thousandths place in a NOPR proposing clarifications to the test procedures for fluorescent lamp ballasts, published on January 6, 2015 (hereafter the “January 2015 clarification NOPR”). 80 FR 404.

Regarding this proposal, NEMA commented that rounding to the thousandths place is acceptable as long as significant figures are handled correctly. (NEMA, No. 30 at p. 3) ⁵ DOE received no further comments on rounding BLE. However, DOE determined that rounding requirements would be more appropriately addressed in 10 CFR 429.26,⁶ and thus did not adopt rounding requirements in the June 2015 clarification final rule. In this NOPR, DOE is proposing to amend 10 CFR 429.26 by specifying that the represented value of BLE must be rounded to the nearest thousandths place.

⁵ A notation in this form provides a reference for information that is in the docket of DOE's rulemaking to develop test procedures for fluorescent lamp ballasts (Docket No. EERE-2009-BT-TP-0016), which is maintained at www.regulations.gov. This notation indicates that the statement preceding the reference is document number 30 in the docket for the fluorescent lamp ballasts test procedure rulemaking, and appears at page 3 of that document.

⁶ The January 2015 clarification NOPR proposed to include rounding requirements at 10 CFR 430.23.

C. Rounding Requirements and Represented Value for Power Factor

Currently, rounding requirements are not provided for the represented value of power factor. Manufacturers have shown the capability to round to the nearest hundredths place. When reporting power factor in product literature and data sheets, it is standard for manufacturers to round to the nearest hundredths place. DOE proposes to amend 10 CFR 429.26 by specifying that the power factor must be rounded to the nearest hundredths place. DOE also proposes to add power factor to 10 CFR 429.26(a)(2)(ii) to clearly indicate the requirements for calculating the represented value of power factor prior to rounding.

D. Lamp Pairing for Testing

In the May 2011 test procedure final rule, DOE specified that ballasts are to be paired with the most common wattage lamp and provided a table (Table A of appendix Q of subpart B of 10 CFR part 430) to indicate which lamp should be used with each ballast. 76 FR 25211. Table A lists the ballast description along with the lamp type intended for testing. Though ballasts can frequently operate lamps of the same diameter but different wattages, DOE requires testing with only one lamp wattage per ballast. To clarify this requirement, in the January 2015 clarification NOPR, DOE proposed to indicate in section 2.3.1.7 of Appendix Q that each ballast should be tested with only one lamp type corresponding to the lamp diameter and base type the ballast is designed and marketed to operate. 80 FR 404, 415. For example, a ballast designed and marketed to operate both 32 watt (W) 4-foot medium bipin (MBP) T8 lamps and 28 W 4-foot MBP T8 lamps should only be tested with the 32 W lamp. DOE also proposed to indicate in section 2.3.1.5 of Appendix Q that a ballast designed and marketed to operate both T8 and T12 lamps must be tested with T8 lamps. 80 FR at 406. DOE adopted these proposed clarifications in the June 2015 clarification final rule. 80 FR 31971.

Regarding the proposal in the January 2015 clarification NOPR, NEMA recommended that DOE also include the American National Standards Institute (ANSI) lamp abbreviations from ANSI C78.81 ⁷ in Table A of Appendix Q of subpart B of 10 CFR part 430. (NEMA, No. 30 at p. 2) DOE did not address this lamp identification issue in the June 2015 clarification final rule because DOE wanted to provide opportunity for public comment on the proposed incorporation by reference of additional industry standards. DOE agrees that referencing the ANSI and IEC lamp specifications would further clarify the lamp pairings used for testing. Section 2.3.1.3 of Appendix Q states that the fluorescent lamp used for testing must meet the specifications of a reference lamp as defined by ANSI C82.13 (IBR 430.3), and ANSI C82.13 states that the lamps used must operate at values of lamp voltage, lamp wattage and lamp current, each within 2.5 percent of the values given in the corresponding lamp standards found in ANSI C78.81 and ANSI C78.901.

⁷ “American National Standard for Electric Lamps: Double-Capped Fluorescent Lamps—Dimensional and Electrical Characteristics” (approved Jan. 14, 2010).

In this NOPR, DOE proposes to add the appropriate page number corresponding to the lamp specifications in ANSI_ANSLG C78.81-2010 (hereafter “ANSI C78.81-2010”), ANSI_IEC C78.901-2005 (hereafter “ANSI C78.901-2005”),⁸ and IEC 60081 (Amendment 4, Edition 5.0) ⁹ in parentheses alongside the contents of the Lamp Diameter and Base column of Table A of Appendix Q. To support these page number references, DOE proposes to incorporate by reference IEC 60081 (Amendment 4, Edition 5.0).

⁸ “American National Standard for Electric Lamps—Single-Based Fluorescent Lamps—Dimensional and Electrical Characteristics” (approved Mar. 23, 2005).

⁹ ANSI C78.81 directs readers to IEC 60081 for lamp specifications for T5 miniature bipin lamps. IEC 60081 refers to “International Electrotechnical Commission Double-capped fluorescent lamps—Performance specifications” (approved Feb. 18, 2010).

IV. Procedural Issues and Regulatory Review

A. Review Under Executive Order 12866

The Office of Management and Budget (OMB) has determined that test procedure rulemakings do not constitute “significant regulatory actions” under section 3(f) of Executive Order 12866, Regulatory Planning and Review, 58 FR 51735 (Oct. 4, 1993). Accordingly, this action was not subject to review under the Executive Order by the Office of Information and Regulatory Affairs (OIRA) in the Office of Management and Budget.

B. Review Under the Regulatory Flexibility Act

The Regulatory Flexibility Act (5 U.S.C. 601 et se.) requires preparation of an initial regulatory flexibility analysis (IFRA) for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the DOE rulemaking process. 68 FR 7990. DOE has made its procedures and policies available on the Office of the General Counsel's Web site: http://energy.gov/gc/office-general-counsel.

This rulemaking clarifies existing requirements for testing and compliance with standards and does not change the burden associated with fluorescent lamp ballast regulations on any entity, large or small. Therefore, DOE concludes and certifies that this rulemaking would not have a significant economic impact on a substantial number of small entities.

Accordingly, DOE has not prepared a regulatory flexibility analysis for this rulemaking. DOE's certification and supporting statement of factual basis will be provided to the Chief Counsel for Advocacy of the SBA ¹⁰ for review under 5 U.S.C. 605(b). DOE certifies that this rule would have no significant impact on a substantial number of small entities. DOE seeks comment regarding whether the proposed clarifications in this proposed rulemaking would have a significant economic impact on any small entities.

¹⁰ Small Business Administration.

C. Review Under the Paperwork Reduction Act of 1995

Manufacturers of fluorescent lamp ballasts must certify to DOE that their products comply with any applicable energy conservation standards. In certifying compliance, manufacturers must test their products according to the DOE test procedures for fluorescent lamp ballasts, including any amendments adopted for those test procedures. DOE has established regulations for the certification and recordkeeping requirements for all covered consumer products and commercial equipment, including fluorescent lamp ballasts. (76 FR 12422 (March 7, 2011). The collection-of-information requirement for the certification and recordkeeping is subject to review and approval by OMB under the Paperwork Reduction Act (PRA). This requirement has been approved by OMB under OMB control number 1910-1400. Public reporting burden for the certification is estimated to average 30 hours per response, including the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB Control Number.

D. Review Under the National Environmental Policy Act of 1969

In this proposed rule, DOE proposes revisions to test procedures for fluorescent lamp ballasts. DOE has determined that this rule falls into a class of actions that are categorically excluded from review under the National Environmental Policy Act of 1969 (42 U.S.C. 4321 et seq.) and DOE's implementing regulations at 10 CFR part 1021. Specifically, this proposed rule would amend the existing test procedures without affecting the amount, quality or distribution of energy usage, and, therefore, would not result in any environmental impacts. Thus, this rulemaking is covered by Categorical Exclusion A5 under 10 CFR part 1021, subpart D, which applies to any rulemaking that interprets or amends an existing rule without changing the environmental effect of that rule. Accordingly, neither an environmental assessment nor an environmental impact statement is required.

E. Review Under Executive Order 13132

Executive Order 13132, “Federalism,” 64 FR 43255 (August 4, 1999) imposes certain requirements on agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. 65 FR 13735. DOE has examined this proposed rule and has determined that it would not have a substantial direct effect on the States, on the relationship between the national government and the States, or on the distribution of power and responsibilities among the various levels of government. EPCA governs and prescribes Federal preemption of State regulations as to energy conservation for the products that are the subject of this proposed rule. States can petition DOE for exemption from such preemption to the extent, and based on criteria, set forth in EPCA. (42 U.S.C. 6297(d)) No further action is required by Executive Order 13132.

F. Review Under Executive Order 12988

Regarding the review of existing regulations and the promulgation of new regulations, section 3(a) of Executive Order 12988, “Civil Justice Reform,” 61 FR 4729 (Feb. 7, 1996), imposes on Federal agencies the general duty to adhere to the following requirements: (1) Eliminate drafting errors and ambiguity; (2) write regulations to minimize litigation; (3) provide a clear legal standard for affected conduct rather than a general standard; and (4) promote simplification and burden reduction. Section 3(b) of Executive Order 12988 specifically requires that Executive agencies make every reasonable effort to ensure that the regulation: (1) Clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in sections 3(a) and 3(b) to determine whether they are met or it is unreasonable to meet one or more of them. DOE has completed the required review and determined that, to the extent permitted by law, the proposed rule meets the relevant standards of Executive Order 12988.

G. Review Under the Unfunded Mandates Reform Act of 1995

Title II of the Unfunded Mandates Reform Act of 1995 (UMRA) requires each Federal agency to assess the effects of Federal regulatory actions on State, local, and Tribal governments and the private sector. Public Law 104-4, sec. 201 (codified at 2 U.S.C. 1531). For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA. 62 FR 12820; also available at http://energy.gov/gc/office-general-counsel. DOE examined today's proposed rule according to UMRA and its statement of policy and determined that the rule contains neither an intergovernmental mandate, nor a mandate that may result in the expenditure of $100 million or more in any year, so these requirements do not apply.

H. Review Under the Treasury and General Government Appropriations Act, 1999

Section 654 of the Treasury and General Government Appropriations Act, 1999 (Pub. L. 105-277) requires Federal agencies to issue a Family Policymaking Assessment for any rule that may affect family well-being. This rule would not have any impact on the autonomy or integrity of the family as an institution. Accordingly, DOE has concluded that it is not necessary to prepare a Family Policymaking Assessment.

I. Review Under Executive Order 12630

DOE has determined, under Executive Order 12630, “Governmental Actions and Interference with Constitutionally Protected Property Rights” 53 FR 8859 (March 18, 1988), that this regulation would not result in any takings that might require compensation under the Fifth Amendment to the U.S. Constitution.

J. Review Under Treasury and General Government Appropriations Act, 2001

Section 515 of the Treasury and General Government Appropriations Act, 2001 (44 U.S.C. 3516 note) provides for agencies to review most disseminations of information to the public under guidelines established by each agency pursuant to general guidelines issued by OMB. OMB's guidelines were published at 67 FR 8452 (Feb. 22, 2002), and DOE's guidelines were published at 67 FR 62446 (Oct. 7, 2002). DOE has reviewed this proposed rule under the OMB and DOE guidelines and has concluded that it is consistent with applicable policies in those guidelines.

K. Review Under Executive Order 13211

Executive Order 13211, “Actions Concerning Regulations That Significantly Affect Energy Supply, Distribution, or Use,” 66 FR 28355 (May 22, 2001), requires Federal agencies to prepare and submit to OMB, a Statement of Energy Effects for any proposed significant energy action. A “significant energy action” is defined as any action by an agency that promulgated or is expected to lead to promulgation of a final rule, and that: (1) Is a significant regulatory action under Executive Order 12866, or any successor order; and (2) is likely to have a significant adverse effect on the supply, distribution, or use of energy; or (3) is designated by the Administrator of OIRA as a significant energy action. For any proposed significant energy action, the agency must give a detailed statement of any adverse effects on energy supply, distribution, or use should the proposal be implemented, and of reasonable alternatives to the action and their expected benefits on energy supply, distribution, and use.

This regulatory action to clarify test procedures for measuring the energy efficiency of fluorescent lamp ballasts is not a significant regulatory action under Executive Order 12866. Moreover, it would not have a significant adverse effect on the supply, distribution, or use of energy, nor has it been designated as a significant energy action by the Administrator of OIRA. Therefore, it is not a significant energy action, and, accordingly, DOE has not prepared a Statement of Energy Effects.

L. Review Under Section 32 of the Federal Energy Administration Act of 1974

Under section 301 of the Department of Energy Organization Act (Pub. L. 95-91; 42 U.S.C. 7101), DOE must comply with section 32 of the Federal Energy Administration Act of 1974, as amended by the Federal Energy Administration Authorization Act of 1977. (15 U.S.C. 788; FEAA) Section 32 essentially provides in relevant part that, where a proposed rule authorizes or requires use of commercial standards, the notice of proposed rulemaking must inform the public of the use and background of such standards. In addition, section 32(c) requires DOE to consult with the Attorney General and the Chairman of the Federal Trade Commission (FTC) concerning the impact of the commercial or industry standards on competition.

The proposed rule would incorporate testing methods contained in the following commercial standards: ANSI C78.901-2005, “American National Standard for Electric Lamps—Single-Based Fluorescent Lamps—Dimensional and Electrical Characteristics” and IEC 60081, “International Electrotechnical Commission Double-capped fluorescent lamps—Performance specifications” (Amendment 4, Edition 5). The Department has evaluated these standards and is unable to conclude whether they fully comply with the requirements of section 32(b) of the FEAA, (i.e., that they were developed in a manner that fully provides for public participation, comment, and review). DOE will consult with the Attorney General and the Chairman of the FTC concerning the impact of these test procedures on competition, prior to prescribing a final rule.

M. Description of Standards Incorporated by Reference

In this NOPR, DOE proposes to incorporate by reference the test standard published by IEC, titled “International Electrotechnical Commission Double-capped fluorescent lamps—Performance specifications,” IEC 60081 Amendment 4 Edition 5.0. IEC 60081 is an industry accepted standard that specifies dimensional and electrical characteristics related to fluorescent lamps (specifically T5 lamps) and is applicable to products sold in North America. The description of lamp-ballast pairings for testing proposed in this NOPR references IEC 60081. IEC 60081 is readily available on IEC's Web site at https://webstore.iec.ch/.

V. Public Participation

A. Submission of Comments

DOE will accept comments, data, and information regarding this proposed rule no later than the date provided in the DATES section at the beginning of this proposed rule. Interested parties may submit comments using any of the methods described in the ADDRESSES section at the beginning of this document.

Submitting comments via regulations.gov. The regulations.gov Web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to regulations.gov information for which disclosure is restricted by statute, such as trade secrets and commercial or financial information (hereinafter referred to as Confidential Business Information (CBI)). Comments submitted through regulations.gov cannot be claimed as CBI. Comments received through the Web site will waive any CBI claims for the information submitted. For information on submitting CBI, see the Confidential Business Information section.

DOE processes submissions made through regulations.gov before posting. Normally, comments will be posted within a few days of being submitted. However, if large volumes of comments are being processed simultaneously, your comment may not be viewable for up to several weeks. Please keep the comment tracking number that regulations.gov provides after you have successfully uploaded your comment.

Submitting comments via email, hand delivery, or mail. Comments and documents submitted via email, hand delivery, or mail also will be posted to regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: One copy of the document marked confidential including all the information believed to be confidential, and one copy of the document marked non-confidential with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

B. Issues on Which DOE Seeks Comment

Although DOE welcomes comments on any aspect of this proposal, DOE is particularly interested in receiving comments and views of interested parties concerning the proposed clarification regarding rounding and lamp pairing for testing.

VI. Approval of the Office of the Secretary

The Secretary of Energy has approved publication of this proposed rule.

List of Subjects

10 CFR Part 429

Confidential business information, Energy conservation, household appliances, Imports, Reporting and recordkeeping requirements.

10 CFR Part 430

Administrative practice and procedure, Confidential business information, Energy conservation, Household appliances, Imports, Incorporation by reference, Intergovernmental relations, Small businesses.

Issued in Washington, DC, on October 27, 2015.
Kathleen B. Hogan,
Deputy Assistant Secretary for Energy Efficiency, Energy Efficiency and Renewable Energy.

For the reasons stated in the preamble, DOE is proposing to amend parts 429 and 430 of Chapter II, Subchapter D, of Title 10, Code of Federal Regulations, as set forth below:

PART 429—CERTIFICATION, COMPLIANCE, AND ENFORCEMENT FOR CONSUMER PRODUCTS AND COMMERCIAL AND INDUSTRIAL EQUIPMENT

1. The authority citation for Part 429 continues to read as follows:

Authority: 42 U.S.C. 6291-6317.

2. Section 429.26 is amended by revising paragraphs (a)(2)(ii) and (b)(2) and adding paragraph (c) to read as follows:

§ 429.26 Fluorescent lamp ballasts.

(a) * * *

(2) * * *

(ii) Any represented value of the ballast luminous efficiency, power factor, or other measure of the energy consumption of a basic model for which consumers would favor a higher value shall be less than or equal to the lower of:

* * * * *

(b) * * *

(2) Pursuant to § 429.12(b)(13), a certification report shall include the following public product-specific information: the ballast luminous efficiency, the ballast power factor, the number of lamps operated by the ballast, and the type of lamps operated by the ballast.

(c) Rounding Requirements.

(1) Round ballast luminous efficiency to the nearest thousandths place.

(2) Round power factor to the nearest hundredths place.

PART 430—ENERGY CONSERVATION PROGRAM FOR CONSUMER PRODUCTS

3. The authority citation for Part 430 continues to read as follows:

Authority: 42 U.S.C. 6291-6309; 28 U.S.C. 2461 note.

4. Section 430.3 is amended by:

a. Adding in paragraph (e)(7) the text “, appendix Q” after the text “§ 430.2”;

b. Redesignating paragraphs (p)(2) through (p)(4) as paragraphs (p)(3) through (p)(5) respectively; and

c. Adding paragraph (p)(2) to read as follows:

§ 430.3 Materials incorporated by reference.

* * * * *

(p) * * *

(2) IEC Standard 60081 (“IEC 60081”), Double-capped fluorescent lamps—Performance specifications. (Amendment 4, Edition 5.0, 2010-02); IBR approved for appendix Q to subpart B.

* * * * *

5. Appendix Q to subpart B of part 430 is amended by revising Table A as follows:

Appendix Q to Subpart B of Part 430—Uniform Test Method for Measuring the Energy Consumption of Fluorescent Lamp Ballasts

* * * * *

Table A—Lamp-and-Ballast Pairings and Frequency Adjustment Factors
Ballast type | Lamp type: Lamp diameter and base | Lamp type: Nominal lamp wattage | Frequency adjustment factor (β): Low-frequency | Frequency adjustment factor (β): High-frequency
Ballasts that operate straight-shaped lamps (commonly referred to as 4-foot medium bipin lamps) with medium bipin bases and a nominal overall length of 48 inches | T8 MBP (Data Sheet 7881-ANSI-1005-2) * | 32 | 0.94 | 1.0
| T12 MBP (Data Sheet 7881-ANSI-1006-1) * | 34 | 0.93 | 1.0
Ballasts that operate U-shaped lamps (commonly referred to as 2-foot U-shaped lamps) with medium bipin bases and a nominal overall length between 22 and 25 inches | T8 MBP (Data Sheet 78901-ANSI-4027-1) * | 32 | 0.94 | 1.0
| T12 MBP * * | 34 | 0.93 | 1.0
Ballasts that operate rapid-start lamps (commonly referred to as 8-foot-high output lamps) with recessed double contact bases and a nominal overall length of 96 inches | T8 HO RDC (Data Sheet 7881-ANSI-1501-1) * | 86 | 0.92 | 1.0
| T12 HO RDC (Data Sheet 7881-ANSI-1017-1) * | 95 | 0.94 | 1.0
Ballasts that operate instant-start lamps (commonly referred to as 8-foot slimline lamps) with single pin bases and a nominal overall length of 96 inches | T8 slimline SP (Data Sheet 7881-ANSI-1505-1) * | 59 | 0.95 | 1.0
| T12 slimline SP (Data Sheet 7881-ANSI-3006-1) * | 60 | 0.94 | 1.0
Ballasts that operate straight-shaped lamps (commonly referred to as 4-foot miniature bipin standard output lamps) with miniature bipin bases and a nominal length between 45 and 48 inches | T5 SO Mini-BP (Data Sheet 60081-IEC-6640-5) * | 28 | 0.95 | 1.0
Ballasts that operate straight-shaped lamps (commonly referred to as 4-foot miniature bipin high output lamps) with miniature bipin bases and a nominal length between 45 and 48 inches | T5 HO Mini-BP (Data Sheet 60081-IEC-6840-4) * | 54 | 0.95 | 1.0
Sign ballasts that operate rapid-start lamps (commonly referred to as 8-foot high output lamps) with recessed double contact bases and a nominal overall length of 96 inches | T8 HO RDC (Data Sheet 7881-ANSI-1501-1) * | 86 | 0.92 | 1.0
| T12 HO RDC (Data Sheet 7881-ANSI-1019-1) * | 110 † | 0.94 | 1.0
MBP, Mini-BP, RDC, and SP represent medium bipin, miniature bipin, recessed double contact, and single pin, respectively.
A ballast must be tested with only one lamp type based on the ballast type description and lamp diameter it is designed and marketed to operate.
* Data Sheet corresponds to ANSI C78.81, ANSI C78.901, or IEC 60081 page number (incorporated by reference; see § 430.3).
** No ANSI or IEC Data Sheet exists for 34 W T12 MBP U-shaped lamps. For ballasts designed to operate only T12 2-foot U-shaped lamps with MBP bases and a nominal overall length between 22 and 25 inches, manufacturers should select a T12 U-shaped lamp designed and marketed as having a nominal wattage of 34 W.
† Lamp type is commonly marketed as 110 W, however the ANSI C78.81 Data Sheet (incorporated by reference; see § 430.3) lists nominal wattage of 113 W. Specifications for operation at 0.800 amperes (A) should be used for testing.

* * * * *

[FR Doc. 2015-28077 Filed 11-3-15; 8:45 am]

BILLING CODE 6450-01-P